ENVIRONMENTAL PROTECTION AGENCY

[FRL-7123-6]

Good Neighbor Environmental Board Meeting

AGENCY: Environmental Protection Agency (EPA).

ACTION: Notice of meeting.

SUMMARY: The next meeting of the Good Neighbor Environmental Board, a federal advisory committee that reports to the President and Congress on environmental and infrastructure projects along the U.S. border with Mexico, will take place in Washington, DC on January 23 and 24, 2002. It is open to the public. The meeting will be preceded by a new member orientation session on January 22.

DATES: On January 23, a day-long strategic planning session will begin at 8:30 a.m. and end at 5:30 p.m. On January 24, a special half-day session called Forecast 2002 will begin at 8 a.m. and end at 12 noon. The pre-meeting orientation session for new members will take place from 4-6 p.m. on January 22.

ADDRESSES: The meeting site is the Omni Shoreham Hotel, 2500 Calvert Street, NW., Washington, DC 20008. The closest metro is Woodley Park-Zoo on Connecticut Avenue.

FOR FURTHER INFORMATION CONTACT: Elaine M. Koerner, Designated Federal Officer for the Good Neighbor Environmental Board, Office of Cooperative Environmental Management, Office of the Administrator, USEPA, MC1601A, 1200 Pennsylvania Ave. NW, Washington, DC 20004, (202) 564-1484, koerner.elaine@epa.gov.

Meeting Access: Individuals requiring special accommodation at this meeting, including wheelchair access to the conference room, should contact the Designated Federal Officer at least five business days prior to the meeting so that appropriate arrangements can be made.

SUPPLEMENTARY INFORMATION:

Agenda

The strategic planning session, scheduled for all day on January 23, is the Board's annual routine planning session in which it determines priorities and processes for the coming year. The Forecast 2002 session, scheduled for the morning of January 24, will consist of substantive briefings from senior-level border region specialists and a public comment session.

Public Attendance

The public is welcome to attend all portions of the meeting. Members of the public who plan to file written statements and/or make brief (suggested 5-minute limit) oral statements at the public comment session are encouraged to contact the Designated Federal Officer for the Board prior to the meeting.

Background

The Good Neighbor Environmental Board meets three times each calendar year at different locations along the U.S.-Mexico border and also holds an annual strategic planning session. It was created by the Enterprise for the Americans Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The U.S. Environmental Protection Agency gives notice of this meeting of the Good Neighbor Environmental Board pursuant to the Federal Advisory Committee Act (Public Law 92-463).

Elaine M. Koerner,
Designated Federal Officer.

[FR Doc. 01-32102 Filed 12-28-01; 8:45 am]

BILLING CODE 6560-50-P